DEPARTMENT OF HEALTH AND HUMAN SERVICES

National Institutes of Health

Notice Correction; Generic Submission of Technology Transfer Center (TTC) External Customer Satisfaction Surveys (NCI)

The Federal Register notice published on December 23, 2010 (75 FR 80830) announcing the submission to OMB of the project titled, “Technology Transfer Center (TTC) External Customer Satisfaction Survey (NCI)” was submitted with errors. The submission is now being presented as a generic submission which will include multiple customer satisfaction surveys over the course of three years. At this time, only the initial survey has been developed and the subsequent surveys have yet to be envisioned. Once subsequent surveys and populations have been identified and finalized, NCI will submit generic information collections (Gen ICs) to OMB for review and approval. The original burden total presented in the 60-day Federal Register Notice is correct however it will be used over the period of three years.

Dated: February 7, 2011.
Vivian Horovitch-Kelley,
NCI Project Clearance Liaison, National Institutes of Health.

[FR Doc. 2011-3242 Filed 2-11-11; 8:45 am]

BILLING CODE 4140-01-P